DEPARTMENT OF TRANSPORTATION

Federal Aviation Administration

14 CFR Part 39

[Docket No. FAA-2023-1054; Project Identifier MCAI-2022-01513-G; Amendment 39-22531; AD 2023-17-05]

RIN 2120-AA64

Airworthiness Directives; Schempp-Hirth Flugzeugbau GmbH Gliders

AGENCY: Federal Aviation Administration (FAA), DOT.

ACTION: Final rule.

SUMMARY: The FAA is adopting a new airworthiness directive (AD) for all Schempp-Hirth Flugzeugbau GmbH (Schempp-Hirth) Model Ventus-2a and Ventus-2b gliders. This AD is prompted by reports of the uncommanded extraction of the airbrakes on one or both wings, possibly resulting in reduced control of the glider. This AD requires repetitively inspecting airbrake bell cranks and airbrake drive funnels for cracking, repetitively inspecting the clearance of the airbrake control system, and taking corrective action as necessary. This AD also requires modifying the airbrake system, which is terminating action for the repetitive inspections. The FAA is issuing this AD to address the unsafe condition on these products.

DATES: This AD is effective October 12, 2023.

The Director of the Federal Register approved the incorporation by reference of certain publications listed in this AD as of October 12, 2023.

ADDRESSES:

AD Docket: You may examine the AD docket at regulations.gov under Docket No.FAA-2023-1054; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Schempp-Hirth Flugzeugbau GmbH, Krebenstrasse 25, Kirchheim unter Teck, Germany; phone: +49 7021 7298-0; email: info@schempp-hirth.com; website: schempp-hirth.com.

• You may view this service information at the FAA, Airworthiness Products Section, Operational Safety Branch, 901 Locust, Kansas City, MO 64106. For information on the availability of this material at the FAA, call (817) 222-5110. It is also available at regulations.gov under Docket No. FAA-2023-1054.

FOR FURTHER INFORMATION CONTACT: Jim Rutherford, Aviation Safety Engineer, FAA, 1600 Stewart Avenue, Suite 410, Westbury, NY 11590; phone: (816) 329-4165; email: jim.rutherford@faa.gov.

SUPPLEMENTARY INFORMATION:

Background

The FAA issued a notice of proposed rulemaking (NPRM) to amend 14 CFR part 39 by adding an AD that would apply to all Schempp-Hirth Model Ventus-2a and Ventus-2b gliders. The NPRM published in the Federal Register on June 9, 2023 (88 FR 37807). The NPRM was prompted by AD 2022-0229, dated November 28, 2022, issued by the European Union Aviation Safety Agency (EASA), which is the Technical Agent for the Member States of the European Union (referred to after this as the MCAI). The MCAI states that permanent excessive loads on the automatic connections of the airbrake control system can cause damage to the drive funnels in the fuselage and to the airbrake bell cranks at the root ribs of the wings. The MCAI requires repetitively inspecting the airbrake bell cranks and drive funnels for damage, inspecting the airbrake control system for clearance, taking corrective actions if necessary, and modifying the airbrake control system by replacing the airbrake bell cranks with reinforced airbrake bell cranks and replacing airbrake drive funnels with reinforced drive funnels. The MCAI states that this modification is terminating action for the repetitive inspections.

In the NPRM, the FAA proposed to require repetitively inspecting airbrake bell cranks and airbrake drive funnels for cracking, repetitively inspecting the clearance of the airbrake control system, and taking corrective action as necessary. The FAA also proposed to require modifying the airbrake system, which is terminating action for the repetitive inspections. This condition, if not detected and corrected, could lead to the uncommanded extraction of the airbrakes on one or both wings and result in reduced control of the glider. The FAA is issuing this AD to address the unsafe condition on these products.

You may examine the MCAI in the AD docket at regulations.gov under Docket No. FAA-2023-1054.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Related Service Information Under 1 CFR Part 51

The FAA reviewed Schempp-Hirth Technical Note 349-43, dated August 9, 2022, which specifies procedures for inspecting the automatic airbrake control connections, including the airbrake bell cranks, for any crack or damage at the welding seams, the airbrake drive funnels for any crack or damage at the welding seams, and the clearance of the airbrake control system, and modifying the airbrake control system by replacing airbrake bell cranks with reinforced airbrake bell cranks and replacing airbrake drive funnels with reinforced drive funnels.

The FAA also reviewed Schempp-Hirth Working Instruction for Technical Note 349-43, dated August 9, 2022 (Schempp-Hirth Working Instruction TN 349-43), which specifies procedures for inspecting the clearance of the airbrake control system in the wings, inspecting the airbrake bell crank and airbrake drive funnel to determine if a reinforced airbrake bell crank and a reinforced airbrake drive funnel are already installed, replacing any airbrake bell crank that is not reinforced with a mounting plate having a reinforced airbrake bell crank attached, replacing any airbrake drive funnel that is not reinforced with a reinforced airbrake drive funnel, checking the control system of the wings after installation of any reinforced parts, and adjusting the control system as necessary. This service information also specifies contacting the manufacturer if it is determined that there is interference among the components of the airbrake control system and adjustments to the airbrake control system are needed.

This service information is reasonably available because the interested parties have access to it through their normal course of business or by the means identified in ADDRESSES.

Differences Between This AD and the MCAI

Schempp-Hirth Working Instruction TN 349-43 specifies to contact the manufacturer if it is determined that there is interference between the components of the airbrake control system and adjustments to the airbrake control system are needed. This AD requires doing those adjustments in accordance with a method approved by the FAA; EASA; or Schempp-Hirth's EASA Design Organization Approval (DOA). If approved by the DOA, the approval must include the DOA-authorized signature.

Schempp-Hirth Working Instruction TN 349-43 specifies to purchase a new mounting plate with a reinforced airbrake bell crank installed from the manufacturer or its international representative. This AD does not specify the source from which new parts should be purchased.

Costs of Compliance

The FAA estimates that this AD affects 32 gliders of U.S. registry.

The FAA estimates the following costs to comply with this AD:

Estimated Costs
Action | Labor cost | Parts cost | Cost per product | Cost on U.S. operators
* Inspect airbrake bell cranks and drive funnels | 4 work-hours × $85 per hour = $340 | $0 | $340 per inspection cycle | $10,880 per inspection cycle.
* Inspect clearance of airbrake control system | 4 work-hours × $85 per hour = $340 | 0 | $340 per inspection cycle | $10,880 per inspection cycle.
Replace airbrake bell cranks and drive funnels | 8 work-hours × $85 per hour = $680 | 1,000 | $1,680 | $53,760.
* The cost estimates provided for the inspection of the airbrake bell cranks and drive funnels and the inspection of the airbrake control system clearance are for the first occurrence. If no cracks are found, then the inspection is repeated at intervals not to exceed 100 hours time-in-service. The replacement of the bell cranks and drive funnels occurs if any cracking is found during the inspection (on-condition) or within 12 months (required action), whichever occurs first.

The FAA estimates the following costs to do any necessary actions that will be required based on the results of the inspection. The agency has no way of determining the number of gliders that might need this action:

On-Condition Costs
Action | Labor cost | Parts cost | Cost per product
Replace airbrake bell cranks and drive funnels | 8 work-hours × $85 per hour = $680 | $1,000 | $1,680

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-17-05 Schempp-Hirth Flugzeugbau GmbH: Amendment 39-22531; Docket No. FAA-2023-1054; Project Identifier MCAI-2022-01513-G.

(a) Effective Date

This airworthiness directive (AD) is effective October 12, 2023.

(b) Affected ADs

None.

(c) Applicability

This AD applies to Schempp-Hirth Flugzeugbau GmbH (Schempp-Hirth) Model Ventus-2a and Ventus-2b gliders, all serial numbers, certificated in any category.

(d) Subject

Joint Aircraft System Component (JASC) Code 2760, Drag Control System.

(e) Unsafe Condition

This AD is prompted by reports of uncommanded extraction of the airbrakes on one or both wings, possibly resulting in reduced control of the glider. The FAA is issuing this AD to address this condition. The unsafe condition, if not addressed, could result in reduced control of the glider.

(f) Compliance

Comply with this AD within the compliance times specified, unless already done.

(g) Required Actions

(1) Within 40 days after the effective date of this AD and thereafter at intervals not to exceed 100 hours time-in-service (TIS), do the actions in paragraphs (g)(1)(i) and (ii) of this AD.

(i) Inspect the airbrake bell cranks and airbrake drive funnels for cracking at the welding seams, in accordance with Action paragraphs (1a) and (1b) in Schempp-Hirth Technical Note 349-43, dated August 9, 2022 (Schempp-Hirth TN 349-43).

(ii) Inspect the clearance of the airbrake control system, in accordance with Action paragraph (1c) in Schempp-Hirth TN 349-43; and Action paragraph (1.c) in Schempp-Hirth Working Instruction for Technical Note 349-43 dated August 9, 2022 (Schempp-Hirth Working Instruction TN 349-43). Where Schempp-Hirth Working Instruction TN 349-43 specifies “if in doubt” use plasticine lines, this AD requires using plasticine lines.

Note 1 to paragraph (g)(1): This service information contains German to English translation. The European Union Aviation Safety Agency (EASA) used the English translation in referencing the document from Schempp-Hirth. For enforceability purposes, the FAA will refer to the Schempp-Hirth service information in English as it appears on the document.

(2) If, during any inspection required by paragraph (g)(1)(i) of this AD, any cracking at the welding seams is detected, before next flight, do the applicable corrective actions in accordance with Action paragraph(s) (2a), (2b), (2c), and (2d), in Schempp-Hirth TN 349-43; and Action paragraph(s) (2.a), (2.b), (2.c), and (2.d), in Schempp-Hirth Working Instruction TN 349-43. Where Schempp-Hirth Working Instruction TN 349-43 specifies to purchase a new mounting plate with a reinforced airbrake bell crank installed from the manufacturer or its international representative, this AD does not specify the source from which new parts should be purchased.

(3) If, during any inspection required by paragraph (g)(1)(ii) of this AD, it is determined that there is interference among the components of the airbrake control system and adjustments to the airbrake control system are needed, do those adjustments in accordance with a method approved by the FAA; EASA; or Schempp-Hirth's EASA Design Organization Approval (DOA). If approved by the DOA, the approval must include the DOA-authorized signature.

(4) Unless already accomplished as required by paragraph (g)(2) of this AD, within 12 months after the effective date of this AD, replace the airbrake bell cranks with reinforced airbrake bell cranks and replace the airbrake drive funnels with reinforced drive funnels, in accordance with Action paragraph (2d) in Schempp-Hirth TN 349-43; and Action paragraph(s) (2.a), (2.b), (2.c), and (2.d), in Schempp-Hirth Working Instruction TN 349-43. Where Schempp-Hirth Working Instruction TN 349-43 specifies to purchase a new mounting plate with a reinforced airbrake bell crank installed from the manufacturer or its international representative, this AD does not specify the source from which new parts should be purchased.

(5) Replacement on a glider of each airbrake bell crank and airbrake drive funnel with a reinforced airbrake bell crank and a reinforced airbrake drive funnel, as required by paragraph (g)(2) or paragraph (g)(4) of this AD, constitutes terminating action for the repetitive inspections required by paragraph (g)(1) of this AD for that glider. The initial inspection is required for all gliders.

(h) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (i)(2) of this AD or email to: 9-AVS-AIR-730-AMOC@faa.gov. If mailing information, also submit information by email. Before using any approved AMOC, notify your appropriate principal inspector, or lacking a principal inspector, the manager of the local flight standards district office/certificate holding district office.

(i) Additional Information

(1) Refer to EASA AD 2022-0229, dated November 28, 2022, for related information. This EASA AD may be found in the AD docket at regulations.gov under Docket No. FAA-2023-1054.

(2) For more information about this AD, contact Jim Rutherford, Aviation Safety Engineer, FAA, 1600 Stewart Avenue, Suite 410, Westbury, NY 11590; phone: (816) 329-4165; email: jim.rutherford@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Schempp-Hirth Flugzeugbau GmbH Technical Note 349-43, dated August 9, 2022.

(ii) Schempp-Hirth Flugzeugbau GmbH Working Instruction for Technical Note 349-43, dated August 9, 2022.

Note 1 to paragraph (j)(2): This service information contains German to English translation. EASA used the English translation in referencing the document from Schempp-Hirth Flugzeugbau GmbH. For enforceability purposes, the FAA will refer to the Schempp-Hirth Flugzeugbau GmbH service information in English as it appears on the document.

(3) For service information identified in this AD, contact Schempp-Hirth Flugzeugbau GmbH, Krebenstrasse 25, Kirchheim unter Teck, Germany; phone: +49 7021 7298-0; email: info@schempp-hirth.com; website: schempp-hirth.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on August 17, 2023.
Victor Wicklund,
Deputy Director, Compliance & Airworthiness Division, Aircraft Certification Service.

[FR Doc. 2023-19223 Filed 9-6-23; 8:45 am]

BILLING CODE 4910-13-P